DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on September 25th, 2019, from 10:00 a.m. EDT to 4:00 p.m. EDT.

The board will meet in closed-session on September 25th, 2019, from 10:00 a.m. EDT to 4:00 p.m. EDT to discuss confidential issues surrounding the proposed Mandatory Guidelines for Federal Workplace Drug Testing Programs (urine specimens, oral fluid, hair), studies from Johns Hopkins Behavioral and Pharmacology Research Unit (BPRU), future direction considering the Farm Bill, and potential recommendations to the Assistant Secretary for Mental Health and Substance Use regarding additional drugs that may be tested for in the future. Therefore, the meeting is closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Matthew Aumen.

Committee Name: Substance Abuse and Mental Health Services Administration, Center for Substance Abuse Prevention, Drug Testing Advisory Board.

Dates/Time/Type: September 25, 2019, from 10:00 a.m. to 4:00 p.m. EDT: CLOSED.

Place: Substance Abuse and Mental Health Services Administration, 5600 Fishers Lane, Rockville, MD 20857.

Contact: Matthew Aumen, Program Analyst, Center for Substance Abuse Prevention, 5600 Fishers Lane, Room 16E61A, Rockville, Maryland 20857, Telephone: (240) 276-2419, Email: matthew.aumen@samhsa.hhs.gov.

Charles P. LoDico,
Chemist.

[FR Doc. 2019-19293 Filed 9-5-19; 8:45 am]

BILLING CODE 4162-20-P